ENVIRONMENTAL PROTECTION AGENCY

[EPA-HQ-OW-2006-0369; FRL-10501-01-OW]

Proposed Information Collection Request; Comment Request; National Estuary Program (Renewal)

AGENCY: Environmental Protection Agency (EPA).

ACTION: Notice.

SUMMARY: The Environmental Protection Agency (EPA) is planning to submit an information collection request (ICR), “National Estuary Program (Renewal)” (EPA ICR No. 1500.11, OMB Control No. 2040-0138) to the Office of Management and Budget (OMB) for review and approval in accordance with the Paperwork Reduction Act (PRA). Before doing so, EPA is soliciting public comments on specific aspects of the proposed information collection as described below. This is a proposed extension of the ICR, which is currently approved through September 30, 2023. An Agency may not conduct or sponsor, and a person is not required to respond to a collection of information without a currently valid OMB control number.

DATES: Comments must be submitted on or before March 6, 2023.

ADDRESSES: Submit your comments, referencing Docket ID No. EPA-HQ-OW-2006-0369 online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI) or other information whose disclosure is restricted by statute.

FOR FURTHER INFORMATION CONTACT: Vince Bacalan, Oceans, Wetlands and Communities Division; Office of Wetlands, Oceans and Watersheds, (Mail Code 4504T), Environmental Protection Agency, 1200 Pennsylvania Ave. NW, Washington, DC 20460; telephone number: 202-566-0930; fax number: 202-566-1336; email address: bacalan.vince@epa.gov.

SUPPLEMENTARY INFORMATION: Supporting documents that explain in detail the information that the EPA will be collecting are available in the public docket for this ICR. The docket can be viewed online at www.regulations.gov or in person at the EPA Docket Center, WJC West, Room 3334, 1301 Constitution Ave., NW, Washington, DC 20460. The telephone number for the Docket Center is 202-566-1744. For additional information about EPA's public docket, visit www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The National Estuary Program (NEP) involves collecting information from the state, local entity or nongovernmental organization that receives funds under section 320 of the Clean Water Act (CWA) (i.e., the NEP). The regulation requiring this information is found in 40 CFR part 35.

Prospective grant recipients seek funding to develop and coordinate the implementation of Comprehensive Conservation Management Plans (CCMPs) for estuaries of national significance. To receive funds, grantees must submit annual work plans to EPA, which are used to track performance of each of the 28 estuary program locations currently in the NEP. EPA provides funding to the 28 NEPs to support long-term implementation of CCMPs in the form of assistance agreements, and each NEP is evaluated on its progress every five years. The primary purpose of the program evaluation process is to help EPA determine whether the 28 programs included in the NEP are making adequate progress implementing their CCMPs. EPA also requests that each of the 28 NEPs receiving section 320 funds report annually on a number of performance measures that allow EPA to maintain effective program management, execute its fiduciary responsibility to the program, and summarize environmental results achieved within the overall NEP. Information gathered may be included in agency reports along with other EPA program measures.

The passage of the Infrastructure Investment and Jobs Act, also known as Bipartisan Infrastructure Law (BIL), on November 15, 2021, enhances the work of the NEPs with additional funding to accelerate and more extensively implement CCMPs, ensure that benefits reach disadvantaged communities, and build the adaptive capacity of ecosystems and communities. As part of this expanded investment, the NEP is also required to track certain investments and benefits under the Justice40 Initiative (part II section 223 of 86 FR 7619, February 1, 2021), which will increase the overall burden estimates for this renewal.

Form Numbers: None.

Respondents/affected entities: Entities potentially affected by this action are those state or local entities or nongovernmental organizations in the NEP that receive assistance agreements under section 320 of the CWA.

Respondent's obligation to respond: Required to obtain or retain a benefit (section 320 of the CWA).

Estimated number of respondents: 28 (total).

Frequency of response: Annual.

Total estimated burden: 5,360 hours (per year). Burden is defined at 5 CFR 1320.3(b).

Total estimated cost: $319,724 (per year), includes $0 annualized capital or operation & maintenance costs.

Changes in Estimates: There is likely an increase in the total estimated respondent burden compared with the ICR currently approved by OMB. This increase is due to program evaluations taking place in the next three years, compared to two years in the currently approved ICR. Expanded reporting is expected under BIL, in addition to annual appropriation reporting, as well as new requirements (i.e., NEP equity strategies designed to meet expectations under the Justice40 Initiative). Note that these estimates will be updated in the final Federal Register publication.

Brian Frazer,
Acting Director, Office of Wetlands, Oceans, and Watersheds, Office of Water.

[FR Doc. 2022-28565 Filed 1-3-23; 8:45 am]

BILLING CODE 6560-50-P